DEPARTMENT OF COMMERCE

Agency Information Collection Activities; Submission for OMB Review; Comment Request; Reporting Process for Complaint of Employment Discrimination Used By Permanent Employees and Applicants for Employment at DOC and Complaint of Employment Discrimination for the Decennial Census

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 12, 2023 during a 60-day comment period. This notice allows for an additional 30 days for public comments.

Agency: Office of The Secretary, Office of Civil Rights, Commerce.

Title: Reporting Process for Complaint of Employment Discrimination Used by Permanent Employees and Applicants for Employment at DOC and Complaint of Employment Discrimination for the Decennial Census.

OMB Control Number: 0690-0015.

Form Number(s): CD-498, CD-498A.

Type of Request: Regular (extension of a currently approved information collection).

Number of Respondents: 165 (correction from the 60-day notice).

Average Hours per Response: ½ hour (30 minutes).

Burden Hours: 87½ hours.

Needs and Uses: The Equal Employment Opportunity Commission (EEOC) regulations at 29 CFR 1614.106 require that a Federal employee or applicant for Federal employment alleging discrimination based on race, color, sex (including sexual orientation, transgender status, and pregnancy), national origin, religion, age, disability, pregnancy accommodation, or reprisal for protected activity must submit a signed statement that is sufficiently precise to identify the actions or practices that form the bases of the complaint. The individual completing the form is asked to identify the bureau at which the alleged discrimination took place, and whether the individual worked at that bureau at the time of the alleged discrimination. The individual completing the form is also asked to describe the alleged discriminatory action(s) as clearly as possible and include the date(s) and to articulate the basis or bases of the complaint (race, color, sex, etc.). Further, the individual completing the form is asked to identify the remedy(ies) sought for the alleged discrimination. Although complainants are not required to use the proposed form to file their complaints, the Office of Civil Rights strongly encourages its use to ensure efficient case processing and trend analyses of complaint activity.

Affected Public: Individuals and households.

Frequency: On occasion.

Respondent's Obligation: Voluntary.

Legal Authority: 29 CFR 1614.106.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-06200 Filed 3-22-24; 8:45 am]

BILLING CODE 3510-BP-P